NUCLEAR REGULATORY COMMISSION

[NRC-2020-0159]

Design Limits, Loading Combinations, Materials, Construction and Testing of Concrete Containments

AGENCY: Nuclear Regulatory Commission.

ACTION: Regulatory guide; issuance.

SUMMARY: The U.S. Nuclear Regulatory Commission (NRC) is issuing Revision 4 to Regulatory Guide (RG) 1.136, “Design Limits, Loading Combinations, Materials, Construction and Testing of Concrete Containments.” It updates the guidance for materials, design, construction, fabrication, examination, and testing of concrete containments in nuclear power plants through endorsement, with exceptions, of the 2019 edition of the American Society of Mechanical Engineers (ASME) Boiler & Pressure Vessel (B&PV) Code, Section III, Division 2 (American Concrete Institute (ACI) Standard 359-19), “Code for Concrete Containments.”

DATES: Revision 4 to RG 1.136 is available on February 22, 2021.

ADDRESSES: Please refer to Docket ID NRC-2020-0159 when contacting the NRC about the availability of information regarding this document. You may obtain publicly available information related to this document using any of the following methods:

• Federal Rulemaking Website: Go to https://www.regulations.gov and search for Docket ID NRC-2020-0159. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Revision 4 to RG 1.136 and the regulatory analysis may be found in ADAMS under Accession Nos. ML20301A167 and ML20105A216, respectively.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

Regulatory guides are not copyrighted, and NRC approval is not required to reproduce them.

FOR FURTHER INFORMATION CONTACT: George Thomas, Office of Nuclear Reactor Regulation, telephone: 301-415-6181, email: George.Thomas2@nrc.gov and Edward O'Donnell, Office of Nuclear Regulatory Research, telephone: 301-415-3317, email: Edward.ODonnell@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, to explain techniques that the staff uses in evaluating specific issues or postulated events, and to describe information that the staff needs in its review of applications for permits and licenses.

Revision 4 of RG 1.136 was issued with a temporary identification of Draft Regulatory Guide, DG-1372. This revision provides guidance to meet regulatory requirements for materials, design, construction, fabrication, examination, and testing of concrete containments in nuclear power plants.

This revision of the guide endorses, with exceptions, the 2019 edition of Division 2 of the ASME B&PV Code, Section III (ACI Standard 359-19), “Code for Concrete Containments.” This revision of the guide also addresses the acceptability of the Section III Code Cases related to Division 2 of the ASME B&PV Code, Section III.

II. Additional Information

The NRC published a notice of the availability of DG-1372 in the Federal Register on July 8, 2020 (85 FR 41071) for a 60-day public comment period. The public comment period closed on September 8, 2020. Public comments on DG-1372 and the staff responses to the public comments are available in ADAMS under Accession No. ML20301A168.

III. Congressional Review Act

This RG is a rule as defined in the Congressional Review Act (5 U.S.C. 801-808). However, the Office of Management and Budget has not found it to be a major rule as defined in the Congressional Review Act.

IV. Backfitting, Forward Fitting, and Issue Finality

This regulatory guide provides guidance for materials, design, construction, fabrication, examination, and testing of concrete containments in nuclear power plants through endorsement, with exceptions, of the 2019 edition of Division 2 of the ASME B&PV Code, Section III (ACI Standard 359-19), “Code for Concrete Containments.” The issuance of this regulatory guide does not constitute backfitting as defined in section 50.109 of title 10 of the Code of Federal Regulations (CFR), “Backfitting,” and as described in NRC Management Directive 8.4, “Management of Backfitting, Forward Fitting, Issue Finality, and Information Requests,” or affect issue finality of any approval issued under 10 CFR part 52, “Licenses, Certificates, and Approvals for Nuclear Power Plants,” because, as explained in this regulatory guide, licensees are not required to comply with the positions set forth in this regulatory guide.

Dated: February 16, 2021.
For the Nuclear Regulatory Commission.
Meraj Rahimi,
Chief, Regulatory Guidance and Generic Issues Branch, Division of Engineering, Office of Nuclear Regulatory Research.

[FR Doc. 2021-03457 Filed 2-19-21; 8:45 am]

BILLING CODE 7590-01-P